DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, Substance Abuse and Mental Health Services Administration (SAMHSA) will publish periodic summaries of proposed projects. To request more information on the proposed projects or to obtain a copy of the information collection plans, call the SAMHSA Reports Clearance Officer at (240) 276-0361. Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including leveraging automated data collection techniques or other forms of information technology.

Proposed Project: Revision to the Community Mental Health Services Block Grant and Substance Use Prevention, Treatment, and Recovery Services Block Grant FY 2026-2027 Application Plan and Report Guide (OMB No. 0930-0168)

SAMHSA is requesting approval from the Office of Management and Budget (OMB) to revise the 2026-2027 Community Mental Health Services Block Grant (MHBG) and Substance Use Prevention, Treatment, and Recovery Services (SUPTRS) Block Grant Application Plan and Report Guide.

Currently, the SUPTRS BG and the MHBG differ on a number of their practices (e.g., data collection at individual or aggregate levels) and statutory authorities (e.g., method of calculating MOE, stakeholder input requirements for planning, set asides for specific populations or programs, etc.). Historically, the Centers within SAMHSA that administer these block grants have had different approaches to application requirements and reporting. To compound this variation, states have different structures for accepting, planning, and accounting for the block grants and the prevention set aside within the SUPTRS BG. As a result, how these dollars are spent and what is known about the services and clients that receive these funds varies by block grant and by State.

SAMHSA has conveyed that block grant funds must be directed toward four purposes: (1) to fund priority treatment and support services for individuals without insurance or who cycle in and out of health insurance coverage; (2) to fund those priority treatment and support services not covered by Medicaid, Medicare, or private insurance offered through the exchanges and that demonstrate success in improving outcomes and/or supporting recovery; (3) to fund universal, selective and indicated prevention activities and services that align with SAMHSA's six prevention strategies; and (4) to collect performance and outcome data to determine the ongoing effectiveness of behavioral health prevention, treatment and recovery support services and to plan the implementation of new services on a nationwide basis.

States will need help to meet future challenges associated with, the implementation and management of an integrated physical health, mental health, and substance use disorder service system. SAMHSA has established standards and expectations that will lead to an improved system of care for individuals with or at risk of mental and substance use disorders. Therefore, this application package continues to fully exercise SAMHSA's existing authority regarding states, U.S. territories, freely associated states, and the Red Lake Band of Chippewa Indians' (subsequently referred to as “states”) use of block grant funds as they fully integrate behavioral health services into the broader health care continuum.

Consistent with previous applications, the FY 2026-2027 application has required sections and other sections where additional information is requested. The FY 2026-2027 application requires states to submit a face sheet, a table of contents, a behavioral health assessment and plan, reports of expenditures and persons served, an executive summary, and funding agreements and certifications. In addition, SAMHSA is requesting information on key areas that are critical to the states' success in addressing health care equity. Therefore, as part of this block grant planning process, states should identify promising or effective strategies as well as technical assistance needed to implement the strategies identified in their plans for FYs 2026 and 2027. SAMHSA has made changes to the Block Grant Plan and Report requirements for FFY 2026 and 2027. These changes are necessary to ensure that funds are spent in an appropriate and timely manner. Adjustments were made to pre-existing tables in the plan and report.

On the BG narrative portion of the Block Grant Plan document changes include editorial changes and minor language clarifications throughout the document. Examples include changing “call centers” to “contact centers” and “paraprofessionals” to “peer support specialists and recovery coaches, prevention specialists” as appropriate throughout the document. In addition, updated guidance on best practices and conditions under which states may use BG funds for improvements to their health information technology (IT) and systems have been made. On the MHBG application, one new planning table has been added (Table 4a) to collect planned MHBG budget for direct services, other capacity building/systems development, and administrative costs. In addition, a new data section has been added to the Environmental Factors and Plan section.

Both MHBG and SUPTRS BG reports adopted HHS recommended Sexual Orientation and Gender Identity (SOGI) measures for reporting. Key modifications included the addition of “Two-Spirit” for both sexual orientation and gender identity for individuals who identify as American Indian or Alaska Native, and an update of terms used. Changes to these measures were applied to MHBG Tables: 8A-8D, 9, 10A-10B, 13A-13B, 14, 15A-15B, 18, 19A-9B, 21, 22 23A-23B, and 24; and SUPTRS BG Tables: 10B, 11A, 11B, 11C.

On the MHBG report there are changes with the addition of one new table to the state agency expenditures section (Table 4b on the MHBG). With the addition of this new table, the original MHBG table 4 has been relabeled 4a. In addition, an appendix with a list of definitions have been added to the aid states in reporting data. The additional tables should not require excessive effort as all data will already be collected by the states on how MHBG funds are spent on direct and system development. Minor revisions were made for clarification to other sections. Proposed revisions for substance use disorder treatment services in the FY 26-27 SUPTRS BG Plan and Report include revisions related to removal of stigmatizing language, with the deletion of the term `abuse', and replacement with the term ‘use’, per the Consolidated Appropriations Act, 2023. The Plan and Report also include the universal adoption of ‘Recovery Support Services’ as a stand-alone category for SUPTRS BG Plan and Report tables. These changes affect Plan Tables 1, 2b, 4b, and 6b, and Report Tables 1, 2, 4, 6, 7.

Editorial and minor stylistic changes have been made to tables and language. Footnotes have been revised that define the COVID-19 and ARP Supplemental Funding expenditure periods, including the addition of explicit instructions on the second No Cost Extension (NCE) for the COVID-19 funding, and the expiration date for the ARP funding. Finally, the SUPTRS BG Report Table 11c has been revised to reflect the Number of Persons Admitted to Treatment by Sexual Orientation and Race/Ethnicity, in a reporting format that is compatible with the format and content of the comparable CMHS table for the MHBG.

Similarly, modifications to SUPTRS BG reports were made to allow for the accurate capture of information for the FY 2026/2027 reporting period and SUPTRS BG priorities.

Proposed revisions for prevention services in the FY 26-27 SUPTRS BG Plan include those revisions that are related to a more intentional use of language, with strengthened statements with the addition of statistics, and added language to reinforce the interrelatedness between mental health and substance use. There is also reinforcement of SUPTRS BG primary prevention set-aside funds to support universal, selective, and/or indicated substance use prevention strategies.

Updated tables ensure consistency in Tables 5a-5c for both Plans and Reports, and updated language for substances in Table 5c. Table 5b (Primary Prevention Expenditures by IOM Categories) was added to align with Table 5b (Primary Prevention Planned Expenditures by IOM Categories) in the application.

The term ‘abstinence’ has been removed from the Prevention National Outcome Measures (NOMs) to better reflect current terminology. Report Tables 31 and 32 have been combined into a new Report Table 31, which reduces burden for grantees and removes redundant, obsolete reporting requirements. Gender categories in Table 31 have been updated to align with CSAT gender categories.

While the statutory deadlines and block grant award periods remain unchanged, SAMHSA encourages states to turn in their application as early as possible to allow for a full discussion and review by SAMHSA. Applications for the MHBG-only are due no later than September 2, 2025. The application for SUPTRS BG-only is due no later than October 1, 2025. A single application for MHBG and SUPTRS BG combined is due no later than September 2, 2025.

Estimates of Annualized Hour Burden

The estimated annualized burden for the uniform application will remain 33,493 hours, since most revisions have been made for clarification and the combining of tables will not change the burden. Burden estimates are broken out in the following tables showing burden separately for Year 1 and Year 2. Year 1 includes the estimates of burden for the uniform application and annual reporting. Year 2 includes the estimates of burden for the recordkeeping and annual reporting. The reporting burden remains constant for both years.

Table 1—Estimates of Application and Reporting Burden for Year 1
Substance Use Prevention, Treatment, and Recovery Services (SUPTRS BG) and Community Mental Health Services (MHBG) Block Grants | Substance Use Prevention, Treatment, and Recovery Services (SUPTRS BG) and Community Mental Health Services (MHBG) Block Grants: Authorizing statute SUPTRS BG | Substance Use Prevention, Treatment, and Recovery Services (SUPTRS BG) and Community Mental Health Services (MHBG) Block Grants: Authorizing statute MHBG | Substance Use Prevention, Treatment, and Recovery Services (SUPTRS BG) and Community Mental Health Services (MHBG) Block Grants: Implementing regulation | Substance Use Prevention, Treatment, and Recovery Services (SUPTRS BG) and Community Mental Health Services (MHBG) Block Grants: Number of respondent | Substance Use Prevention, Treatment, and Recovery Services (SUPTRS BG) and Community Mental Health Services (MHBG) Block Grants: Number of responses per year | Substance Use Prevention, Treatment, and Recovery Services (SUPTRS BG) and Community Mental Health Services (MHBG) Block Grants: Number of hours per response | Substance Use Prevention, Treatment, and Recovery Services (SUPTRS BG) and Community Mental Health Services (MHBG) Block Grants: Total hours
Reporting | Standard Form and Content |  |  |  |  |  |
| 42 U.S.C. 300x-32(a) |  |  |  |  |  |
SUPTRS BG | Annual Report |  |  |  |  |  | 11,190
| 42 U.S.C. 300x-52(a) |  | 45 CFR 96.122(f) | 60 | 1 |  |
| 42 U.S.C. 300x-30-b |  |  | 5 | 1 |  |
| 42 U.S.C. 300x-30(d)(2) |  | 45 CFR 96.134(d) | 60 | 1 |  |
MHBG | Annual Report |  |  |  |  |  | 11,003
|  | 42 U.S.C. 300x-6(a) |  | 59 | 1 |  |
|  | 42 U.S.C. 300x-52(a) |  |  |  |  |
|  | 42 U.S.C. 300x-4(b)(3)B |  | 59 | 1 |  |
| State Plan (Covers 2 years) |  |  |  |  |  |
SUPTRS BG elements | 42 U.S.C. 300x-22(b) |  | 45 CFR 96.124(c)()1) | 60 | 1 |  |
| 42 U.S.C. 300x-23 |  | 45 CFR 96.126(f) | 60 | 1 |  |
| 42 U.S.C. 300x-27 |  | 45 CFR 96.131(f) | 60 | 1 |  |
| 42 U.S.C. 300x-32(b) |  | 45 CFR 96.122(g) | 60 | 1 | 120 | 7,230
MHBG elements |  | 42 U.S.C. 300x-1(b) |  | 59 | 1 | 120 | 7,109
|  | 42 U.S.C. 300x-1(b)(2) |  | 59 | 1 |  |
|  | 42 U.S.C. 300x-2(a) |  | 59 | 1 |  |
| Waivers |  |  |  |  |  | 3,240
| 42 U.S.C. 300x-24(b)(5)(B) |  |  | 20 | 1 |  |
| 42 U.S.C. 300x-28(d) |  | 45 CFR 96.132(d) | 5 | 1 |  |
| 42 U.S.C. 300x-30(c) |  | 45 CFR 96.134(b) | 10 | 1 |  |
| 42 U.S.C. 300x-31(c) |  |  | 1 | 1 |  |
| 42 U.S.C. 300x-32(c) |  |  | 7 | 1 |  |
| 42 U.S.C. 300x-32(e) |  |  | 10 |  |  |
|  | 42 U.S.C. 300x-2(a)(2) |  | 10 |  |  |
|  | 42 U.S.C 300x-4(b)(3) |  | 10 |  |  |
|  | 42 U.S.C 300x-6(b) |  | 7 |  |  |
Recordkeeping | 42 U.S.C. 300x-23 | 42 U.S.C. 300x-3 | 45 CFR 96.126(c) | 60/59 | 1 | 20 | 1,200
| 42 U.S.C. 300x-25 |  | 45 CFR 96.129(a)(13) | 10 | 1 | 20 | 200
| 42 U.S.C 300x-65 |  | 42 CFR part 54 | 60 | 1 | 20 | 1,200
Combined Burden |  |  |  |  |  |  | 42,373
Report.
300x-52(a)—Requirement of Reports and Audits by States—Report.
300x-30(b)—Maintenance of Effort (MOE) Regarding State Expenditures—Exclusion of Certain Funds (SUPTRS BG).
300x-30(d)(2)—MOE—Noncompliance—Submission of Information to Secretary (SUPTRS BG).
State Plan—SUPTRS BG.
300x-22(b)—Allocations for Women.
300x-23—Intravenous Substance Abuse.
300x-27—Priority in Admissions to Treatment.
300x-29—Statewide Assessment of Need.
300x-32(b)—State Plan.
State Plan—MHBG.
42 U.S.C. 300x-1(b)—Criteria for Plan.
42 U.S.C. 300x-1(b)(2)—State Plan for Comprehensive Community Mental Health Services for Certain Individuals—Criteria for Plan—Mental Health System Data and Epidemiology.
42 U.S.C. 300x-2(a)—Certain Agreements—Allocations for Systems Integrated Services for Children.
Waivers—SUPTRS BG.
300x-24(b)(5)(B)—Human Immunodeficiency Virus—Requirement Regarding Rural Areas.
300x-28(d)—Additional Agreements.
300x-30(c)—MOE.
300x-31(c)—Restrictions on Expenditure of Grant—Waiver Regarding Construction of Facilities.
300x-32(c)—Certain Territories.
300x-32(e)—Waiver Amendment for 1922, 1923, 1924 and 1927.
Waivers—MHBG.
300x-2(a)(2)—Allocations for Systems Integrated Services for Children.
300x-6(b)—Waiver for Certain Territories.
Recordkeeping.
300x-23—Waiting list.
300x-25—Group Homes for Persons in Recovery From Substance Use Disorders.
300x-65—Charitable Choice.

Table 2—Estimates of Application and Reporting Burden for Year 2
| Number of respondent | Number of responses per year | Number of hours per response | Total hours
Reporting:
SUPTRS BG | 60 | 1 | 187 | 11,220
MHBG | 59 | 1 | 187 | 11,033
Recordkeeping | 60/59 | 1 | 40 | 2,360
Combined Burden |  |  |  | 24,613

The total annualized burden for the application and reporting is 33,493 hours (42,373 + 24,613 = 66,986/2 years = 33,493).

Link for the application: http://www.samhsa.gov/grants/block-grants.

Written comments and recommendations for the proposed information collection should be sent within 30 days of publication of this notice to www.reginfo.gov/public/do/PRAMain. Find this particular information collection by selecting “Currently under 30-day Review—Open for Public Comments” or by using the search function.

Krishna Palipudi,
Social Science Analyst.

[FR Doc. 2024-28440 Filed 12-4-24; 8:45 am]

BILLING CODE P